DEPARTMENT OF TRANSPORTATION

Federal Aviation Administration

14 CFR Part 39

[Docket No. FAA-2016-5431; Directorate Identifier 2015-CE-044-AD]

RIN 2120-AA64

Airworthiness Directives; M7 Aerospace LLC Airplanes

AGENCY: Federal Aviation Administration (FAA), DOT.

ACTION: Notice of proposed rulemaking (NPRM).

SUMMARY: We propose to adopt a new airworthiness directive (AD) for M7 Aerospace LLC Models SA26-AT, SA26-T, SA226-AT, SA226-T, SA226-T(B), SA226-TC, SA227-AC (C-26A), SA227-AT, SA227-BC (C-26A), SA227-CC, SA227-DC (C-26B), and SA227-TT airplanes. This proposed AD was prompted by reports of multiple cracks in the steel horizontal tube of the cockpit control column. This proposed AD would require inspection of the cockpit control column horizontal tube with repair or replacement as necessary of the cockpit control column. We are proposing this AD to correct the unsafe condition on these products.

DATES: We must receive comments on this proposed AD by May 16, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact M7 Aerospace LLC, 10823 NE Entrance Road, San Antonio, Texas 78216; phone: (210) 824-9421; fax: (210) 804-7766; Internet: http://www.elbitsystems-us.com; email: MetroTech@M7Aerospace.com. You may view this referenced service information at the FAA, Small Airplane Directorate, 901 Locust, Kansas City, Missouri 64106. For information on the availability of this material at the FAA, call 816-329-4148.

Examining the AD Docket

You may examine the AD docket on the Internet at http://www.regulations.gov by searching for and locating Docket No. FAA-2016-5431; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Andrew McAnaul, Aerospace Engineer, FAA, ASW-143 (c/o San Antonio MIDO), 10100 Reunion Place, Suite 650, San Antonio, Texas 78216; phone: (210) 308-3365; fax: (210) 308-3370; email: andrew.mcanaul@faa.gov.

SUPPLEMENTARY INFORMATION:

Comments Invited

We invite you to send any written relevant data, views, or arguments about this proposal. Send your comments to an address listed under the ADDRESSES section. Include “Docket No. FAA-2016-5431; Directorate Identifier 2015-CE-044-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA received reports of multiple cracks in the cockpit control column horizontal tube at the corners of the access panel cutout, at the pulley bolt welds, and at the elevator arm weld in the steel horizontal tube of the control column on M7 Aerospace SA26, SA226, and SA227 airplanes.

This condition, if not corrected, could result in partial or complete control column failure with partial or complete loss of pitch and/or roll control.

Related Service Information Under 1 CFR Part 51

We reviewed M7 Aerospace LLC SA26 Series Service Bulletin (SB) 26-27-002, M7 Aerospace LLC SA226 Series SB 226-27-078, M7 Aerospace LLC SA227 Series SB 227-27-058, and M7 Aerospace LLC SA227 Series SB CC7-27-030, all dated October 8, 2015. The service information describes procedures for inspection of the cockpit control column horizontal tube for cracks and repair or replacement of the cockpit control column as necessary. All of the related service information is reasonably available because the interested parties have access to it through their normal course of business or by the means identified in the ADDRESSES section of this NPRM.

FAA's Determination and Requirements of the Proposed AD

We are proposing this AD because we evaluated all the relevant information and determined the unsafe condition described previously is likely to exist or develop in other products of these same type designs.

Proposed AD Requirements

This proposed AD would require repetitive inspections of the cockpit control column horizontal tube for cracks and repair or replacement of the cockpit control column as necessary.

Differences Between This Proposed AD and the Service Information

We have revised the compliance times of the proposed AD to differ from service information. We have determined we have met the safety intent with the revised compliance times while allowing for clarity. The compliance times in the proposed AD action would take precedence over those in the service bulletin.

Costs of Compliance

We estimate that this proposed AD affects 350 airplanes of U.S. registry.

We estimate the following costs to comply with this proposed AD:

Estimated Costs
Action | Labor cost | Parts cost | Cost per product | Cost on U.S. operators
Inspection | 12 work-hours × $85 per hour = $1,020 | Not applicable | $1,020 | $357,000

We estimate the following costs to do any necessary repairs/replacements that would be required based on the results of the proposed inspection. We have no way of determining the number of airplanes that might need these repairs/replacements:

On-Condition Costs
Action | Labor cost | Parts cost | Cost per product
Repair cracks | 2 work-hours × $85 per hour = $170 | Not applicable | $170
Replace parts | 16 work-hours × $85 per hour = $1,360 | $5,000 | 6,360

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

M7 Aerospace LLC: Docket No. FAA-2016-5431; Directorate Identifier 2015-CE-044-AD.

(a) Comments Due Date

We must receive comments by May 16, 2016.

(b) Affected ADs

None.

(c) Applicability

This AD applies to M7 Aerospace LLC Models SA26-AT, SA26-T, SA226-AT, SA226-T, SA226-T(B), SA226-TC, SA227-AC (C-26A), SA227-AT, SA227-BC (C-26A), SA227-CC, SA227-DC (C-26B), and SA227-TT airplanes, all serial numbers, certificated in any category.

(d) Subject

Joint Aircraft System Component (JASC)/Air Transport Association (ATA) of America Code 2700, Flight Controls.

(e) Unsafe Condition

This AD was prompted by reports of multiple cracks in the steel horizontal tube of the cockpit control column. We are issuing this AD to require repetitive inspections of the cockpit control column horizontal tube with repair or replacement, as necessary, of the cockpit control column. We are proposing this AD to correct the unsafe condition on these products.

(f) Compliance

Comply with paragraphs (g)(1) through (g)(2) of this AD using the following service bulletins within the compliance times specified below, unless already done:

(1) For Models SA26-T and SA26-AT: M7 Aerospace LLC Service Bulletin (SB) 26-27-002, dated October 8, 2015;

(2) For Models SA226-AT, SA226-T, SA226-T(B), and SA226-TC: M7 Aerospace LLC SB 226-27-078, dated October 8, 2015;

(3) For Models SA227-AC(C-26A), SA227-AT, SA227-BC(C-26A), and SA227-TT: M7 Aerospace LLC SB 227-27-058, dated October 8, 2015; or

(4) For Models SA227-CC and SA227-DC (C-26B): M7 Aerospace LLC SB CC7-27-030, dated October 8, 2015.

(g) Actions

(1) For all airplanes: Within the next 2,000 hours time-in-service (TIS) after the effective date of this AD or no later than when the airplane accumulates 20,000 hours TIS, whichever occurs later, do an initial inspection of the cockpit control column horizontal tube for cracks following paragraph 2.B. of the Accomplishment Instructions of the service bulletins identified in paragraphs (f)(1), (f)(2), (f)(3), or (f)(4) of this AD, as applicable; and repetitively inspect as follows:

(i) For airplanes with less than 35,000 hours TIS as of the effective date of this AD: Repetitively inspect the cockpit control column horizontal tube for cracks every 5,000 hours TIS until the airplane reaches 35,000 hours TIS at which time do the inspection within 2,000 hours TIS from the last inspection or within the next 100 hours TIS, whichever occurs later, and then thereafter at intervals not to exceed 2,000 hours TIS.

(ii) For airplanes with 35,000 hours TIS or more as of the effective date of this AD: Repetitively inspect the cockpit control column horizontal tube for cracks every 2,000 hours TIS.

(2) For all airplanes: If any cracks are found following the inspections required in paragraphs (g)(1), (g)(1)(i), or (g)(1)(ii), as applicable, before further flight, repair the control column following paragraph 2.C. of the Accomplishment Instructions of the service bulletins identified in paragraphs (f)(1), (f)(2), (f)(3), or (f)(4) of this AD.

(h) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Alternative Methods of Compliance (AMOCs)

(1) The Manager, Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(j) Related Information

(1) For more information about this AD, contact Andrew McAnaul, Aerospace Engineer, FAA, ASW-143 (c/o San Antonio MIDO), 10100 Reunion Place, Suite 650, San Antonio, Texas 78216; phone: (210) 308-3365; fax: (210) 308-3370; email: andrew.mcanaul@faa.gov.

(2) For service information identified in this AD, contact M7 Aerospace LLC, 10823 NE Entrance Road, San Antonio, Texas 78216; phone: (210) 824-9421; fax: (210) 804-7766; Internet: http://www.elbitsystems-us.com; email: MetroTech@M7Aerospace.com. You may view this referenced service information at the FAA, Small Airplane Directorate, 901 Locust, Kansas City, Missouri 64106. For information on the availability of this material at the FAA, call 816-329-4148.

Issued in Kansas City, Missouri, on March 28, 2016.
Jacqueline Jambor,
Acting Manager, Small Airplane Directorate, Aircraft Certification Service.

[FR Doc. 2016-07371 Filed 3-31-16; 8:45 am]

BILLING CODE 4910-13-P